DEPARTMENT OF ENERGY

Federal Energy Regulatory Commission

Combined Notice of Filings #1

Take notice that the Commission received the following exempt wholesale generator filings:

Docket Numbers: EG25-35-000.

Applicants: Hecate Energy Frye Solar, LLC.

Description: Hecate Energy Frye Solar, LLC submits Notice of Self-Certification of Exempt Wholesale Generator Status.

Filed Date: 11/15/24.

Accession Number: 20241115-5071.

Comment Date: 5 p.m. ET 12/6/24.

Take notice that the Commission received the following electric rate filings:

Docket Numbers: ER24-10-002.

Applicants: Idaho Power Company.

Description: Compliance filing: Order 2023-A Compliance Filing and Errata to be effective 1/1/2024.

Filed Date: 11/15/24.

Accession Number: 20241115-5113.

Comment Date: 5 p.m. ET 12/6/24.

Docket Numbers: ER24-3053-001.

Applicants: PJM Interconnection, L.L.C.

Description: Tariff Amendment: Request to Defer Action on WMPA SA No. 7347, AG1-480; Docket No. ER24-3053-000 to be effective 12/31/9998.

Filed Date: 11/15/24.

Accession Number: 20241115-5069.

Comment Date: 5 p.m. ET 12/6/24.

Docket Numbers: ER24-3116-001.

Applicants: Duke Energy Business Services LLC, PJM Interconnection, L.L.C.

Description: Tariff Amendment: Duke Energy Business Services LLC submits tariff filing per 35.17(b): Duke Ohio submits Amendment to Pending Filing of SA No. 3141 to be effective 11/25/2024.

Filed Date: 11/15/24.

Accession Number: 20241115-5040.

Comment Date: 5 p.m. ET 12/6/24.

Docket Numbers: ER25-435-000.

Applicants: Tri-State Generation and Transmission Association, Inc.

Description: Informational Filing of 2024 Formula Rate Annual Update of Tri-State Generation and Transmission Association, Inc.

Filed Date: 11/13/24.

Accession Number: 20241113-5155.

Comment Date: 5 p.m. ET 12/4/24.

Docket Numbers: ER25-440-000.

Applicants: Florida Power & Light Company.

Description: § 205(d) Rate Filing: Rate Schedule No. 352 Seminole Tupelo DSS to be effective 1/14/2025.

Filed Date: 11/14/24.

Accession Number: 20241114-5233.

Comment Date: 5 p.m. ET 12/5/24.

Docket Numbers: ER25-441-000.

Applicants: Richland Township Solar II, LLC.

Description: Baseline eTariff Filing: Richland Township Solar II, LLC MBR Tariff to be effective 1/14/2025.

Filed Date: 11/14/24.

Accession Number: 20241114-5254.

Comment Date: 5 p.m. ET 12/5/24.

Docket Numbers: ER25-442-000.

Applicants: BCD 2024 Fund 4 II Lessee, LLC.

Description: Baseline eTariff Filing: BCD 2024 Fund 4 II Lessee, LLC MBR Tariff to be effective 1/14/2025.

Filed Date: 11/14/24.

Accession Number: 20241114-5255.

Comment Date: 5 p.m. ET 12/5/24.

Docket Numbers: ER25-443-000.

Applicants: Tri-State Generation and Transmission Association, Inc.

Description: § 205(d) Rate Filing: Initial Filing of Facility Use Agreements to be effective 1/14/2025.

Filed Date: 11/15/24.

Accession Number: 20241115-5032.

Comment Date: 5 p.m. ET 12/6/24.

Docket Numbers: ER25-444-000.

Applicants: PJM Interconnection, L.L.C.

Description: § 205(d) Rate Filing: Original GIA, SA No. 7399; Project Identifier No. AF2-233 to be effective 9/9/2024.

Filed Date: 11/15/24.

Accession Number: 20241115-5050.

Comment Date: 5 p.m. ET 12/6/24.

Docket Numbers: ER25-445-000.

Applicants: Southwest Power Pool, Inc.

Description: § 205(d) Rate Filing: Tri-State Generation and Transmission Association, Inc. Formula Rate Revisions to be effective 2/1/2025.

Filed Date: 11/15/24.

Accession Number: 20241115-5052.

Comment Date: 5 p.m. ET 12/6/24.

Docket Numbers: ER25-446-000.

Applicants: Midcontinent Independent System Operator, Inc.

Description: § 205(d) Rate Filing: 2024-11-15_SA 3670 Termination of ATC-Springfield Solar Farm E&P (J1171) to be effective 11/16/2024.

Filed Date: 11/15/24.

Accession Number: 20241115-5053.

Comment Date: 5 p.m. ET 12/6/24.

Docket Numbers: ER25-447-000.

Applicants: PJM Interconnection, L.L.C.

Description: § 205(d) Rate Filing: Amendment to WMPA, Service Agreement No. 6254; AD2-135 to be effective 1/15/2025.

Filed Date: 11/15/24.

Accession Number: 20241115-5061.

Comment Date: 5 p.m. ET 12/6/24.

Docket Numbers: ER25-448-000.

Applicants: Tri-State Generation and Transmission Association, Inc.

Description: § 205(d) Rate Filing: Ministerial Clean-Up Filing, Tariff Template Section to be effective 11/1/2022.

Filed Date: 11/15/24.

Accession Number: 20241115-5067.

Comment Date: 5 p.m. ET 12/6/24.

Docket Numbers: ER25-449-000.

Applicants: McFarland Storage C, LLC.

Description: § 205(d) Rate Filing: McFarland Storage C, LLC Shared Facilities Agreement to be effective 11/16/2024.

Filed Date: 11/15/24.

Accession Number: 20241115-5104.

Comment Date: 5 p.m. ET 12/6/24.

Docket Numbers: ER25-450-000.

Applicants: McFarland Storage C, LLC.

Description: § 205(d) Rate Filing: McFarland Storage C, LLC LGIA Co-Tenancy Agreement to be effective 11/16/2024.

Filed Date: 11/15/24.

Accession Number: 20241115-5112.

Comment Date: 5 p.m. ET 12/6/24.

Docket Numbers: ER25-451-000.

Applicants: 50LW 8me LLC.

Description: Baseline eTariff Filing: 50LW 8me LLC MBR Tariff to be effective 1/1/2025.

Filed Date: 11/15/24.

Accession Number: 20241115-5118.

Comment Date: 5 p.m. ET 12/6/24.

Docket Numbers: ER25-452-000.

Applicants: Tri-State Generation and Transmission Association, Inc.

Description: § 205(d) Rate Filing: Proposed Amendments to Transmission Formula Rate Template to be effective 2/1/2025.

Filed Date: 11/15/24.

Accession Number: 20241115-5121.

Comment Date: 5 p.m. ET 12/6/24.

Docket Numbers: ER25-453-000.

Applicants: PJM Interconnection, L.L.C.

Description: Tariff Amendment: Notice of Cancellation of ISA, SA No. 6475; Queue No. AE1-079 to be effective 1/15/2025.

Filed Date: 11/15/24.

Accession Number: 20241115-5125.

Comment Date: 5 p.m. ET 12/6/24.

Docket Numbers: ER25-454-000.

Applicants: PJM Interconnection, L.L.C.

Description: Tariff Amendment: Notice of Cancellation of ISA, SA No. 6454; Queue No. AE1-237 to be effective 1/15/2025.

Filed Date: 11/15/24.

Accession Number: 20241115-5128.

Comment Date: 5 p.m. ET 12/6/24.

Docket Numbers: ER25-455-000.

Applicants: PJM Interconnection, L.L.C.

Description: Tariff Amendment: Notice of Cancellation of ISA, SA No. 6239; Queue No. AE2-343 to be effective 1/15/2025.

Filed Date: 11/15/24.

Accession Number: 20241115-5130.

Comment Date: 5 p.m. ET 12/6/24.

Docket Numbers: ER25-456-000.

Applicants: ISO New England Inc.

Description: § 205(d) Rate Filing: Effective Date Revision for Day-Ahead Ancillary Services for ER24-275, ER24-2883 to be effective 2/28/2025.

Filed Date: 11/15/24.

Accession Number: 20241115-5136.

Comment Date: 5 p.m. ET 12/6/24.

Docket Numbers: ER25-457-000.

Applicants: Central Hudson Gas & Electric Corporation.

Description: § 205(d) Rate Filing: Revision to FERC Rate Schedule 202 to be effective 10/21/2024.

Filed Date: 11/15/24.

Accession Number: 20241115-5146.

Comment Date: 5 p.m. ET 12/6/24.

Take notice that the Commission received the following PURPA 210(m)(3) filings:

Docket Numbers: QM25-1-000.

Applicants: NorthWestern Energy Public Service Corporation.

Description: Application of NorthWestern Energy Public Service Corporation to Terminate Its Mandatory Purchase Obligation under the Public Utility Regulatory Policies Act of 1978.

Filed Date: 11/15/24.

Accession Number: 20241115-5166.

Comment Date: 5 p.m. ET 12/6/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: https://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: November 15, 2024.
Carlos D. Clay,
Acting Deputy Secretary.

[FR Doc. 2024-27277 Filed 11-20-24; 8:45 am]

BILLING CODE 6717-01-P